DEPARTMENT OF COMMERCE

National Oceanic and Atmospheric Administration

50 CFR Part 679

[Docket No. 030314059-3173-02; I.D. 062003A]

RIN 0648-AQ48

Fisheries of the Exclusive Economic Zone (EEZ) Off Alaska; Salmon Fisheries off the Coast of Alaska

AGENCY: National Marine Fisheries Service (NMFS), National Oceanic and Atmospheric Administration (NOAA), Commerce.

ACTION: Proposed rule; request for comments.

SUMMARY: NMFS proposes to correct the definition of the area in which salmon fishing regulations implementing the Fishery Management Plan for the Salmon Fisheries in the EEZ off the Coast of Alaska (Salmon FMP) apply, to remove the words “high seas” wherever they appear in the salmon fishing regulations, and to remove an obsolete reference to the North Pacific Fisheries Act of 1954 from the salmon fishing regulations. This action is necessary to make the regulations consistent with the area definition approved by the Secretary of Commerce (Secretary) in Amendment 3 to the Salmon FMP. The intended effect of this action is regulatory consistency with the provisions of Amendment 3 to the Salmon FMP and improved conservation and management of the salmon fisheries off the coast of Alaska.

DATES: Comments must be received no later than August 22, 2003.

ADDRESSES: Comments may be sent to Sue Salveson, Assistant Administrator, Sustainable Fisheries Division, Alaska Region, NMFS, P.O. Box 21668, Juneau, AK 99802-1668, (Attn: Lori Durall). Hand or courier deliveries of comments may be sent to NMFS, Alaska Region, 709 West 9th Street, Room 420, Juneau, AK 99801. Comments also may be sent via facsimile (fax) to 907-586-7557. Comments will not be accepted if submitted via e-mail or the Internet.

Copies of the Regulatory Impact Review (RIR) may be obtained from the Alaska Region, NMFS, P.O. Box 21668, Juneau, AK 99802 1668, Attn: Lori Gravel-Durall.

FOR FURTHER INFORMATION CONTACT: Patsy A. Bearden, 907-586-7228 ore-mail at patsy.bearden@noaa.gov.

SUPPLEMENTARY INFORMATION:

Background

The salmon fishery in the EEZ off the Coast of Alaska is managed pursuant to the Salmon FMP prepared by the North Pacific Fishery Management Council (Council) under the authority of the Magnuson-Stevens Fishery Conservation and Management Act, 16 U.S.C. 1801 et seq. Implementing regulations originally appeared at 50 CFR part 674.

The original Salmon FMP provided for the management of the salmon fisheries throughout the EEZ off the coast of Alaska except for the extreme western part of the EEZ west of 175° E. long., near Attu Island. The Council excluded this extreme western part of the EEZ because this area was under the jurisdiction of the International Convention for the High Sea Fisheries of the North Pacific Ocean. The original name of the salmon FMP was the “Fishery Management Plan for the High Seas Salmon Fishery off the Coast of Alaska East of 175 Degrees East Longitude.”

Over time, the international regime affecting salmon fisheries changed and the Council revisited its salmon management policies. In 1989, the Council adopted Amendment 3 to the FMP which, among other things, renamed the FMP to “Fishery Management Plan for the Salmon Fisheries in the EEZ off the Coast of Alaska,” deferred regulation of the salmon fisheries in the EEZ to the State of Alaska, and extended the geographic jurisdiction of the Salmon FMP over waters of the EEZ west of 175° E. long. The Secretary approved Amendment 3 to the FMP in 1990 and published a final rule on November 15, 1990 (55 FR 47773) implementing associated measures and removing all the specific management measures from 50 CFR part 674. The 1990 implementing regulations unintentionally omitted the new title of the FMP and the extension of the geographic jurisdiction of the FMP. No public comment was received on this or on any of the other changes made by Amendment 3, and the entire amendment was non-controversial.

In compliance with required consolidation of all Federal fishery regulations pursuant to President Clinton's Regulatory Reform Initiative, NMFS Alaska Region combined all existing fisheries regulations for the EEZ off Alaska, including part 674, into a new 50 CFR part 679 (62 FR 19686, April 23, 1997). This final rule recodified the two regulatory provisions that NMFS erroneously failed to revise in its 1990 rulemaking that implemented Amendment 3. Moreover, NMFS erred again in the regulatory consolidation by redefining the “High Seas Salmon Management Area” as “the portion of the EEZ off Alaska east of 175° E. long.” This new error reinstated the definition of the Salmon FMP management area effective prior to approval of Amendment 3 by eliminating waters west of 175 degrees east longitude from the management area. Consequently, the current regulations implementing the Salmon FMP fail to give regulatory effect to the expansion of geographic jurisdiction adopted in Amendment 3.

A correction notice was published (67 FR 44093, July 1, 2002) to change the name of the Salmon FMP as it appears in 50 CFR 679.1(i) to be consistent with the Salmon FMP as amended and approved by the Secretary.

This action proposes to correct the second omission in the regulations in order to completely implement Amendment 3, by revising the language that describes the geographic jurisdiction of the Salmon FMP as described in Amendment 3.

This action also incorporates other changes. The specific changes proposed by this action are as follows:

Section 679.1 Purpose and Scope

Section 679.1(h) would be revised to remove the reference to 175° E. long., and to restate the application of State of Alaska regulations consistent with the approved Salmon FMP, as shown in the following table.

Table 1. Proposed changes to regulatory text.
Existing text | Proposed text
(i) Fishery Management Plan for the Salmon Fishery in the EEZ off the Coast of Alaska (Salmon FMP).Regulations in this part govern fishing for salmon by fishing vessels of the United States in the EEZ seaward of Alaska east of 175° E. long., referred to as the High Seas Salmon Management Area. | (i) Fishery Management Plan for the Salmon Fishery in the EEZ off the Coast of Alaska (Salmon FMP) (1) Regulations in this part govern fishing for salmon by fishing vessels of the United States in the Salmon Management Area. (2) State of Alaska laws and regulations that are consistent with the Salmon FMP and with the regulations in this part apply to vessels of the United States that are fishing for salmon in the Salmon Management Area.

Section 679.2 Definitions

The definitions of “High Seas Salmon Management Area,” “Commercial fishing,” paragraph (1),” “personal use fishing,” and “Optimum yield,” paragraph (1) would be revised to remove the term “high seas” which was made obsolete by approval of Amendment 3.

Section 679.3 Relation to Other Laws

The heading of § 679.3(f), § 679.3(f)(1), and § 679.3(f)(3) would be revised to remove “High Seas Salmon” and add in its place “Salmon.”

Section 679.4 Permits

Section 679.4 would be revised to remove the term “High Seas Salmon” in 26 places where the term occurs in headings and paragraphs.

Section 679.7 Prohibitions

The heading for § 679.7(h) would be revised to remove the term “High Seas Salmon” and add in its place “Salmon.” Section 679.7(h)(1) would be removed because it refers to the North Pacific Fisheries Act of 1954, 16 U.S.C. 1021-1035, which is no longer in effect. Paragraph (h)(2) would be redesignated as introductory paragraph (h) and would be revised to remove the term “High Seas Salmon” and add in its place “Salmon.”

Figure 23 to 50 CFR part 679 would be added to present a map showing the location of the Salmon Management Area.

Classification

This proposed rule has been determined to be not significant for purposes of Executive Order 12866.

The Chief Counsel for Regulation of the Department of Commerce certified to the Chief Counsel for Advocacy of the Small Business Administration that this proposed rule, if adopted, would not have a significant economic impact on a substantial number of small entities. The proposed rule would extend the jurisdiction of the Salmon Fishery Management Plan (FMP) to the EEZ waters west of 175° E. long, so that it is consistent with the provisions of Amendment 3 to the FMP. This proposed rule will have no effect on any small entities because there is no domestic salmon fishery in these waters, there has not been any domestic salmon fishing in these waters for 40 years, and NMFS expects no salmon fishing to develop in these waters in the forseeable future. As a result, an initial regulatory flexibility analysis was not prepared.

List of Subjects in 50 CFR Part 679

Alaska, Fisheries, International organizations, Recordkeeping and reporting.

Dated: July 17, 2003.
Rebecca Lent,
Deputy Assistant Administrator for Regulatory Programs, National Marine Fisheries Service.

For the reasons set out in the preamble, 50 CFR part 679 is proposed to be amended as follows:

PART 679—FISHERIES OF THE EXCLUSIVE ECONOMIC ZONE OFF ALASKA

1. The authority citation for 50 CFR part 679 continues to read as follows:

Authority: 16 U.S.C. 773 et. seq., 1801 et. seq., and 3631 et. seq.

2. In § 679.1, paragraph (i) is revised to read as follows:

§ 679.1 Purpose and scope.

* * * * *

(i) Fishery Management Plan for the Salmon Fisheries in the EEZ off the Coast of Alaska (Salmon FMP). (1) Regulations in this part govern fishing for salmon by fishing vessels of the United States in the Salmon Management Area.

(2) State of Alaska laws and regulations that are consistent with the Salmon FMP and with the regulations in this part apply to vessels of the United States that are fishing for salmon in the Salmon Management Area.

* * * * *

3. In § 679.2 , the definition for “High Seas Salmon Management Area” is removed; the definitions for “Commercial fishing,” paragraph (1); “Optimum yield” paragraph (1); and “Personal use fishing,” are revised and the definition for “Salmon Management Area” is added, alphabetically to read as follows:

§ 679.2 Definitions.

* * * * *

Commercial fishing means:

(1) For purposes of the salmon fishery, fishing for salmon for sale or barter.

* * * * *

Optimum yield means:

(1) With respect to the Salmon Fishery, that amount of any species of salmon that will provide the greatest overall benefit to the Nation, with particular reference to food production and recreational opportunities, as specified in the Salmon FMP.

* * * * *

Personal use fishing means, for purposes of the salmon fishery, fishing other than commercial fishing.

* * * * *

Salmon Management Area means the waters of the EEZ off the coast of Alaska (see Figure 23 to part 679), including parts of the North Pacific Ocean, Bering Sea, Chukchi Sea, and Beaufort Sea. The Salmon Management Area is divided into a West Area and an East Area with the border between the two at the longitude of Cape Suckling (143 53′36″ W):

(1) The West Area is the area of the EEZ off the coast of Alaska west of the longitude of Cape Suckling (143°53′36″ W.) It includes the EEZ in the Bering Sea, Chukchi Sea, and Beaufort Sea, as well as the EEZ in the North Pacific Ocean west of Cape Suckling.

(2) The East Area is the area of the EEZ off the coast of Alaska east of the longitude of Cape Suckling (143°53′36″ W.).

* * * * *

4. In § 679.7, paragraph (h) is revised to read as follows:

§ 679.7 Prohibitions.

* * * * *

(h) Salmon fisheries. (1) Fish for, take, or retain any salmon in violation of this part.(2) Engage in fishing for salmon in the Salmon Management Area defined at § 679.2 and Figure 23 to this part, except to the extent authorized by § 679.4(h).

* * * * *

§ § 679.3 and 679.4 [Amended]

5. In addition to the amendment set out above, in 50 CFR part 679, remove the words “High Sea Salmon” and add in their place the word “Salmon” in the following places:

a. In § 679.3:

The heading for paragraph (f), introductory text, (f)(1), and (f)(3).

b. In § 679.4:

Paragraph (a)(1)(v),

The heading and paragraph (h) introductory text,

Paragraphs (h)(1), (h)(1)(iii), (h)(3), (h)(4), (h)(5)(i), (h)(5)(i)(A), (h)(5)(i)(B), (h)(5)(i)(C), (h)(5)(ii), (h)(6) introductory text, (h)(6)(iv), (h)(7)(i), (h)(8), (h)(10),

The heading for paragraph (h)(13) introductory text,

Paragraphs (h)(13)(i), (h)(13)(ii)(A), (h)(13)(ii)(E), (h)(14)(i), (h)(15)(i), (h)(15)(iii), (h)(15)(vii), (h)(16)(i).

§ 679.4 [Amended]

6. In § 679.4(h)(2), remove the words “High Seas Management Area” and add in their place the words “Salmon Management Area.”

7. In part 679, Figure 23 is added to read as follows:

BILLING CODE 3510-22-S

[FR Doc. 03-18734 Filed 7-22-03; 8:45 am]

BILLING CODE 3510-22-C